DEPARTMENT OF DEFENSE

Department of the Navy

Privacy Act of 1974; System of Records

AGENCY: Department of the Navy, DoD.

ACTION: Notice to delete a records system.

SUMMARY: The Department of the Navy is deleting one system of records notice from its inventory of records systems subject to the Privacy Act of 1974, as amended (5 U.S.C. 552a).

DATES: The deletion will be effective on July 28, 2003 unless comments are received that would result in a contrary determination.

ADDRESSES: Send comments to Department of the Navy, PA/FOIA Policy Branch, Chief of Naval Operations, N09B10, 2000 Navy Pentagon, Washington, DC 20350-2000.

FOR FURTHER INFORMATION CONTACT: Mrs. Doris Lama at (202) 685-6545 or DSN 325-6545.

SUPPLEMENTARY INFORMATION: The Department of the Navy's record system notices for records systems subject to the Privacy Act of 1974 (5 U.S.C. 552a), as amended, have been published in the Federal Register and are available from the address above.

The Department of the Navy proposes to delete a system of records notice from its inventory of record systems subject to the Privacy Act of 1974 (5 U.S.C. 552a), as amended. The changes to the system of records are not within the purview of subsection (r) of the Privacy Act of 1974 (5 U.S.C. 552a), as amended, which requires the submission of new or altered systems reports. The records system being amended is set forth below, as amended, published in its entirety.

Dated: June 18, 2003.
Patricia L. Toppings,
Alternate OSD Federal Register Liaison Officer, Department of Defense.

N05120-1

System name:

Bond Accounting (February 22, 1993, 58 FR 10747).

Reason:

These records are now under the cognizance of the Defense Finance and Accounting Service (DFAS). DFAS is maintaining these records under the Privacy Act systems of records notices T7335, Defense Civilian Pay System, T7340, Defense Joint Military Pay System-Active Component, T7346, Defense Joint Military Pay System-Reserve Component, and T7347b, Defense Military Retiree and Annuity Pay System.

[FR Doc. 03-16126 Filed 6-25-03; 8:45 am]

BILLING CODE 5001-08-P